DEPARTMENT OF ENERGY

Federal Energy Regulatory Commission

Notice of Effectiveness of Exempt Wholesale Generator Status

February 11, 2020.

| Docket Nos.
Sun Streams 2, LLC | EG20-22-000
Sun Streams 4, LLC | EG20-23-000
Sun Streams PVS, LLC | EG20-24-000
Sun Streams Expansion, LLC | EG20-25-000
Crowned Ridge Wind Farm, LLC | EG20-26-000
Bitter Ridge Wind Farm, LLC | EG20-27-000
Maverick Wind Project, LLC | EG20-28-000
Maverick Wind Project Holdings LLC | EG20-29-000
Sundance Wind Project, LLC | EG20-30-000
Sundance Wind Project Holdings LLC | EG20-31-000
Traverse Wind Energy LLC | EG20-32-000
Traverse Wind Energy Holdings LLC | EG20-33-000
Invenergy Wilkinson Solar Holdings LLC | EG20-34-000
AES Kekaha Solar, LLC | EG20-35-000
Coachella Wind Holdings, LLC | EG20-36-000
Desert Hot Springs, LLC | EG20-37-000
Mojave 16/17/18 LLC | EG20-38-000
Oasis Alta, LLC | EG20-39-000
Mojave 3/4/5 LLC | EG20-40-000
Painted Hills Wind Holdings, LLC | EG20-41-000
Refresh Wind 2, LLC | EG20-42-000
Refresh Wind, LLC | EG20-43-000
San Jacinto Wind II, LLC | EG20-44-000
Terra-Gen 251 Wind, LLC | EG20-45-000
Acorn I Energy Storage, LLC | EG20-46-000
Wildcat I Energy Storage, LLC | EG20-47-000
Little Bear Solar 1, LLC | EG20-48-000
Little Bear Solar 3, LLC | EG20-49-000
Little Bear Solar 4, LLC | EG20-50-000
Little Bear Solar 5, LLC | EG20-51-000
Greenleaf Energy Unit 2 LLC | EG20-52-000
Golden Fields Solar II, LLC | EG20-53-000
Golden Fields Solar III, LLC | EG20-54-000
Golden Fields Solar IV, LLC | EG20-55-000
Crooked Run Solar, LLC | EG20-56-000
Cubico Crooked Run Lessee, LLC | EG20-57-000

Take notice that during the month of January 2020, the status of the above-captioned entities as Exempt Wholesale Generators became effective by operation of the Commission's regulations. 18 CFR 366.7(a) (2019).

Nathaniel J. Davis, Sr.,
Deputy Secretary.

[FR Doc. 2020-03576 Filed 2-21-20; 8:45 am]

BILLING CODE 6717-01-P